NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION: NSF may not conduct or sponsor a collection of information unless (a) the collection of information displays a currently valid OMB control number and (b) the agency informs potential respondents that they are not required to respond unless the information collection displays a currently valid OMB control number.

Title of Collection: NCSES Generic Clearance for Improvement Projects.

OMB Control Number: 3145-0174.

Type of Request: Intent to seek approval to reinstate, with revisions, an information collection for three years.

Abstract. Established within the National Science Foundation by the America COMPETES Reauthorization Act of 2010 § 505, codified in the National Science Foundation Act of 1950, as amended, the National Center for Science and Engineering Statistics (NCSES)—one of 13 principal federal statistical agencies—serves as a central Federal clearinghouse for the collection, interpretation, analysis, and dissemination of objective data on science, engineering, technology, research and development for use by practitioners, researchers, policymakers, and the public. NCSES conducts about a dozen nationally-representative surveys to obtain the data for these purposes. The Generic Clearance will be used to ensure that the highest quality data are obtained from these surveys. State of the art methodology will be used to develop, evaluate, and test questionnaires and survey concepts as well as to research and improve survey and statistical methodologies. This may include field or pilot tests of questions for future large-scale surveys, as needed. The Generic Clearance will also be used to test and evaluate data dissemination tools and methods in an effort to improve access for data users.

Use of the Information. The purpose of these studies is to use the latest and most appropriate methodology to improve NCSES surveys, evaluate new data acquisition and collection efforts, and evaluate data dissemination tools and mechanisms. Methodological findings may be presented externally in technical papers at conferences, published in the proceedings of conferences, or in journals. Improved NCSES surveys, data collections, data procurement, and data dissemination will help policymakers in decisions on research and development funding, graduate education, and the scientific and engineering workforce, as well as contributing to reduced survey costs.

Expected Respondents. The respondents will be from industry, academia, nonprofit organizations, the public, and State, local, and Federal governments. Respondents will be either individuals or institutions, depending on the topic under investigation. NCSES expects to use both qualitative and quantitative procedures, in various modes (e.g., in-person, telephone, web). Up to 20,400 respondents will be contacted across all projects. No respondent will be contacted more than twice in one year under this generic clearance. Every effort will be made to use technology to limit the burden on respondents from small entities.

Estimate of Burden. NCSES estimates that a total reporting and recordkeeping burden of 12,200 hours will result from activities to improve its survey collections and data dissemination tools. The calculation is shown in the following table:

Collection type | Respondents | Total burden (hours) | Annualized burden (hours)
R&D Enterprise Surveys | 800 | 1,050 | 350
Science and Engineering Workforce Surveys | 6,300 | 1,725 | 575
STEM Education Surveys | 800 | 1,000 | 334
Data Dissemination Tools and Methods | 2,500 | 425 | 142
Other surveys and projects not specified | 10,000 | 8,000 | 2,667
Total | 20,400 | 12,200 | 4,067

Dated: September 29, 2025.
Suzanne H. Plimpton,
Reports Clearance Officer, National Science Foundation.

[FR Doc. 2025-19142 Filed 9-30-25; 8:45 am]

BILLING CODE 7555-01-P